DEPARTMENT OF JUSTICE

Notice of Lodging of Settlement Agreement Under the Comprehensive Environmental Response, Compensation, and Liability Act and Chapter 11 of the United States Bankruptcy Code

Notice is hereby given that on January 7, 2011, a proposed Settlement Agreement (“Agreement”) in In re Crucible Materials Corp., Case No. 09-11582 (MFW) (Bankr. D. Del.), was lodged with the United States Bankruptcy Court for the District of Delaware. The Agreement was entered into by the United States, on behalf of the United States Environmental Protection Agency (“EPA”), Crucible Materials Corporation and Crucible Development Corporation (the “Debtors”), and Honeywell International Inc. (“Honeywell”). The Agreement relates to liabilities of the Debtors under the Comprehensive Environmental Response, Compensation, and Liability Act of 1980, 42 U.S.C. 9601 et seq. (“CERCLA”).

The Agreement provides that EPA will have allowed general unsecured claims in the following amounts with respect to the following sites, all of which are located in Onondaga County, New York: (1) $636,000 in connection with the Lake Bottom Subsite of the Onondaga Lake Superfund Site, (2) $320,000 in connection with the Willis Avenue Subsite of the Onondaga Lake Superfund Site, (3) $27,328 in connection with the Crucible Plant Site, (4) $3,255 in connection with the Lake Pump Station Site, and (5) $12,956 in connection with the Maestri-II Site. Under the Agreement, EPA has agreed not to bring a civil action or take administrative action against the Debtors pursuant to Sections 106 and 107(a) of CERCLA, 42 U.S.C. 9606 and 9607(a), and Section 7003 of the Resource Conservation and Recovery Act (“RCRA”), 42 U.S.C. 6973, relating to the Lake Bottom Subsite and the Willis Avenue Subsite of the Onondaga Lake Superfund Site. EPA has also agreed not to bring a civil action or take administrative action against the Debtors pursuant to Section 107(a) of CERCLA, 42 U.S.C. 9607(a), relating to response costs incurred by EPA on or before September 30, 2010 in connection with the Crucible Plant Site, the Lake Pump Station Site, or the Maestri-II Site.

The Agreement also provides that the liability of the Debtors to EPA, with respect to the Butler Mine Tunnel Superfund Site, located in Pittston Township, Pennsylvania, and the consent decree entered into by one of the Debtors in connection with that site (United States v. Auburn Technology, Inc., No. 3:CV00-1912 (M.D. Pa. Feb. 15, 2001), will not be affected by the Agreement.

Finally, the Agreement also provides that Honeywell will have an allowed general unsecured claim in the amount of $20,564,000 in connection with the Lake Bottom Subsite of the Onondaga Lake Superfund Site.

For a period of 15 days from the date of this publication, the Department of Justice will receive comments relating to the Agreement. To be considered, comments must be received by the Department of Justice by the date that this 15 days from the date of this publication. Comments should be addressed to the Assistant Attorney General, Environment and Natural Resources Division, and either e-mailed to pubcomment-ees.enrd@usdoj.gov or mailed to P.O. Box 7611, U.S. Department of Justice, Washington, DC 20044, and should refer to In re Crucible Materials Corp., Case No. 09-11582 (MFW) (Bankr. D. Del.) and D.J. Ref. No. 90-11-3-134/3. A copy of the comments should be sent to Donald G. Frankel, Senior Counsel, Department of Justice, Environmental Enforcement Section, One Gateway Center, Suite 616, Newton, MA 02458 or e-mailed to donald.frankel@usdoj.gov.

The Agreement may be examined at the Office of the United States Attorney, District of Delaware, 1201 Market Street, Suite 1100, Wilmington, Delaware (contact Ellen Slights at 302-573-6277. During the public comment period, the Agreement may also be examined on the following Department of Justice Web site, http://www.usdoj.gov/enrd/Consent_Decrees.html. A copy of the Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Agreement from the Consent Decree Library, please enclose a check in the amount of $4.75 (25 cents per page reproduction cost) payable to the U.S. Treasury (if the request is by fax or email, forward a check to the Consent Decree library at the address stated above). Commenters may request an opportunity for a public meeting, in accordance with Section 7003(d) of RCRA, 42 U.S.C. 6973(d).

Maureen Katz,
Assistant Section Chief, Environmental Enforcement Section, Environment and Natural Resources Division.

[FR Doc. 2011-523 Filed 1-11-11; 8:45 am]

BILLING CODE 4410-15-P